DEPARTMENT OF ENERGY

Federal Energy Regulatory Commission

[Docket Nos. CP13-36-000; CP13-132-000]

Transcontinental Gas Pipeline Company; Notice of Availability of the Draft Environmental Impact Statement for the Proposed Rockaway Delivery Lateral and Northeast Connector Projects and Notice of Public Comment Meetings

The staff of the Federal Energy Regulatory Commission (FERC or Commission) has prepared this draft environmental impact statement (EIS) for the Rockaway Delivery Lateral Project and Northeast Connector Project (collectively referred to as the Projects) as proposed by Transcontinental Gas Pipeline Company (Transco) in the above-referenced dockets. For the Rockaway Project, Transco requests authorization to expand its natural gas pipeline system in New York to provide firm delivery lateral service of 647 thousand dekatherms per day (Mdth/d) of natural gas to National Grid's distribution system in New York City. For the Northeast Connector Project, Transco proposes to modify existing compressor station facilities along its existing pipeline system in Pennsylvania and New Jersey to provide 100 Mdth/d of new incremental natural gas supply to National Grid, as part of the 647 Mdth/d to be provided by the Rockaway Project. The Northeast Connector Project would be operationally dependent on the Rockaway Project with similar construction and in-service schedules.

The draft EIS assesses the potential environmental effects of construction and operation of the Projects in accordance with the requirements of the National Environmental Policy Act of 1969 (NEPA). The FERC staff concludes that approval of the Projects would have some adverse environmental impacts, but these impacts would be reduced to less-than-significant levels with the implementation of Transco's proposed mitigation and the additional measures recommended in the draft EIS.

The National Park Service; U.S. Environmental Protection Agency; U.S. Army Corps of Engineers, New York District; National Oceanic and Atmospheric Administration, National Marine Fisheries Service; and City of New York participated as cooperating agencies in the preparation of the draft EIS. Cooperating agencies have jurisdiction by law or special expertise with respect to resources potentially affected by a proposal and participate in NEPA analysis. While the conclusions and recommendations presented in the draft EIS were developed with input from the cooperating agencies, the federal cooperating agencies will present their own conclusions and recommendations in their respective Records of Decision for the Projects.

The draft EIS addresses the potential environmental effects of construction and operation of the facilities proposed by Transco for the Projects. For the Rockaway Project, these facilities include:

• Approximately 3.2 miles of new 26-inch-diameter pipeline to deliver natural gas from Transco's existing Lower New York Bay Lateral (LNYBL) in the Atlantic Ocean to an onshore tie-in with the National Grid system on the Rockaway Peninsula in the Borough of Queens, Queens County, New York; and

• an onshore meter and regulating (M&R) facility to be built in the Borough of Brooklyn, Kings County, New York.

Approximately 2.6 miles of the proposed pipeline would be constructed offshore on submerged lands owned by New York State. About 0.6 mile of the pipeline would be built on federal lands, both onshore and offshore, within the Gateway National Recreation Area, which is administered by the National Park Service. Less than 0.1 mile of the pipeline would be built on land owned by the Triborough Bridge and Tunnel Authority.

The M&R facility would be constructed within a historic airplane hangar complex on Floyd Bennett Field, which is part of the Gateway National Recreation Area. Floyd Bennett Field is listed in the National Register of Historic Places as a historic district, and the hangar complex is considered a contributing element to the significance of the site. Transco is proposing to adaptively reuse and restore the hangar complex to an exterior appearance that would enhance the visual characteristics of Floyd Bennett Field Historic District.

For the Northeast Connector Project, Transco proposes to:

• Add an incremental 6,540 horsepower of compression at its existing Compressor Station 195 in York County, Pennsylvania by replacing three existing natural gas-fired reciprocating engines and appurtenant facilities with two new electric motor drives;

• add an incremental 5,000 horsepower of compression at its existing Compressor Station 205 in Mercer County, New Jersey by uprating two existing electric motor drives; and

• add an incremental 5,400 horsepower of compression at its existing Compressor Station 207 in Middlesex County, New Jersey by uprating two existing electric motor drives.

These modifications would occur on lands owned by Transco within the existing compressor station sites.

The FERC staff mailed copies of the draft EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Comment Procedures and Public Meetings

Any person wishing to comment on the draft EIS may do so. To ensure consideration of your comments on the proposal in the final EIS, it is important that the Commission receive your comments before November 25, 2013.

For your convenience, there are four methods you can use to submit your comments to the Commission. In all instances, please reference the appropriate docket number (CP13-36-000 for the Rockaway Project and CP13-132-000 for the Northeast Connector Project) with your submission. The Commission encourages electronic filing of comments and has dedicated eFiling expert staff available to assist you at (202) 502-8258 or efiling@ferc.gov. Please carefully follow these instructions so that your comments are properly recorded.

(1) You may file your comments electronically by using the eComment feature, which is located on the Commission's Web site at www.ferc.gov under the link to Documents and Filings. An eComment is an easy method for interested persons to submit brief, text-only comments on a project.

(2) You may file your comments electronically by using the eFiling feature, which is located on the Commission's Web site at www.ferc.gov under the link to Documents and Filings. With eFiling, you can provide comments in a variety of formats by attaching them as a file with your submission. New eFiling users must first create an account by clicking on “eRegister.” You will be asked to select the type of filing you are making. A comment on a particular project is considered a “Comment on a Filing.”

(3) You may file a paper copy of your comments at the following address: Kimberly D. Bose, Secretary, Federal Energy Regulatory Commission, 888 First Street NE., Room 1A, Washington, DC 20426.

(4) In addition to or in lieu of sending electronic or written comments, the Commission invites you to attend one of the public comment meetings its staff will conduct in the Rockaway Project area to receive comments on the draft EIS. Interested groups and individuals are encouraged to attend and present oral comments on the draft EIS. Transcripts of the meetings will be available for review in eLibrary under the project docket numbers. All meetings will begin at 7:00 p.m., and are scheduled as follows:

Date | Location
October 22, 2013 | Knights of Columbus Rockaway Council 2672, 333 Beach 90th Street, Rockaway Beach, NY 11693.
October 23, 2013 | Aviator Sports & Events Center,3159 Flatbush Avenue, Brooklyn, NY 11234.

After the comments are reviewed, any significant new issues will be investigated, and a final EIS will be published and distributed to stakeholders. The final EIS will contain the FERC staff's responses to timely comments received on the draft EIS.

Any person seeking to become a party to the proceeding must file a motion to intervene pursuant to Rule 214 of the Commission's Rules of Practice and Procedures (18 CFR 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Additional Information

Additional information about the Projects is available from the Commission's Office of External Affairs, at (866) 208-FERC or on the FERC Web site (www.ferc.gov) using the eLibrary link. Click on the eLibrary link, click on “General Search,” and enter the appropriate docket number, excluding the last three digits, in the Docket Number field (i.e., CP13-36 for the Rockaway Project or CP13-132 for the Northeast Connector Project). Be sure you have selected an appropriate date range. For assistance, please contact FERC Online Support at ferconlinesupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Section 106 of the National Historic Preservation Act

In addition to NEPA, FERC and the other federal cooperating agencies are required to comply with Section 106 of the National Historic Preservation Act. Section 106 requires federal agencies to take into account the effects of agency actions on properties that are listed in, or eligible for listing in, the National Register of Historic Places, and to afford the Advisory Council on Historic Preservation an opportunity to comment. As part of this process, FERC staff and the National Park Service will prepare a Determination of Effect for Transco's proposed reuse and rehabilitation of the hangar complex for the M&R facility on Floyd Bennett Field. Design documents for rehabilitation of the hangars may be viewed on the FERC Web site (www.ferc.gov) using the eLibrary link as described above. Paper copies of the documents may be viewed in person 7 days a week, October 4 to November 25, 2013, from 9:30 a.m. to 4:00 p.m. at the following address: William Fitts Ryan Visitor Center, Lobby, Floyd Bennett Field, 50 Aviation Road, Brooklyn, New York 11234.

Comments on the design documents may be filed with the Commission or made in person at the public comment meetings as described above.

Dated: October 4, 2013.
Kimberly D. Bose,
Secretary.

[FR Doc. 2013-24441 Filed 10-10-13; 8:45 am]

BILLING CODE 6717-01-P